DEPARTMENT OF THE INTERIOR

National Park Service

Notice of Intent to Repatriate Cultural Items: Horner Collection, Oregon State University, Corvallis, OR

AGENCY: National Park Service, Interior.

ACTION: Notice.

Notice is here given in accordance with the Native American Graves Protection and Repatriation Act (NAGPRA), 25 U.S.C. 3005, of the intent to repatriate cultural items in the possession of the Horner Collection, Oregon State University, Corvallis, OR, that meets the definition of “unassociated funerary objects” and/or “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 63 cultural items are 9 gaming balls, 2 pestles, 1 shot glass, 7 menhirs (monoliths), 1 bone paddle, 28 projectile points, 1 drill, 1 drill fragment, 2 knives, 6 bean-shaped stones, 1 mortar, 1 net weight, 1 obsidian nodule, 1 mill stone, and 1 hammerstone.

The Museum of Oregon Country, Oregon Agricultural College was renamed the John B. Horner Museum of the Oregon Country in 1936, and became commonly known as the Horner Museum. The Oregon Agricultural College was renamed the Oregon State College in 1937, and became Oregon State University in 1962. The Horner Museum closed in 1995. Currently, cultural items from the Horner Museum are referred to as the Horner Collection, which is owned by, and in the possession of, Oregon State University.

Horner Collection, Oregon State University professional staff consulted with representatives of the Confederated Tribes of the Grand Ronde Community of Oregon and Confederated Tribes of the Siletz Reservation, Oregon.

In the 1920s, cultural items were found in a subterranean circle of vertical columns (a henge) near Salem, Marion County, OR, by an unknown person. Museum records have attributed the site as “from the Phallic Temple near Salem.” In 1981, the six menhirs were donated to the Horner Museum by the heirs of J.L. Hills. At an unknown date, a single menhir was found by an unknown person. Museum records state that it was probably found in Marion County, OR. In 1985, this menhir was donated to the Horner Museum by Phil Green. The seven menhirs are stone items that have a phallic form and is possible they represent part of the “Phallic Temple.”

In 1933, six bean shaped stones found, at an unknown time by an unknown person, at the “Phallic Temple” near Salem, Marion County, OR, were brought to the Horner Museum by either Mr. Harralson or J.G. Crawford. These cultural items are closely related to menhirs.

Menhirs marked areas of special significance that continue to have on-going significance to the Confederated Tribes of the Grand Ronde Community of Oregon. The 13 cultural items are objects of cultural patrimony and could not be alienated by any one tribal member.

Salem, Marion County, OR, is in the traditional territory of the Confederated Tribes of the Grand Ronde Community of Oregon and was ceded by the Treaty with the Kalapuya made and concluded in Dayton, Oregon Territory on January 10, 1855. Joel Palmer, Superintendent of Indian Affairs, established a temporary camp on the south fork of the Yamhill River (Grand Ronde) in January 1856 and this is where the Umpquas, Kalapuyas, and Molallas resided. By 1857, an executive order established Grand Ronde as a permanent reservation. The Horner Collection, Oregon State University has no evidence the items were ever buried with any individual. However, Mr. Crawford and Mr. Hill were known to have collected human remains and cultural items from burials and mounds. Based on the history of the collectors, consultation evidence, and museum records, the Horner Collection, Oregon State University reasonably believes the cultural items are objects of cultural patrimony and unassociated funerary objects.

At an unknown date, cultural items were found in the Kalapuya mounds in Linn County, OR, by an unknown person. In 1933, the cultural items were brought to the Horner Museum by J.G. Crawford and G.W. Wright and were accessioned into the Horner Collection in 1958. The 15 cultural items are 9 gaming balls, 1 pestle, 1 mortar, 1 net weight, 1 obsidian nodule, 1 mill stone, and 1 hammerstone.

At an unknown date, one cultural item was found in Olings mounds on the Kalapuya River, Linn County, OR, by an unknown person. In 1981, the cultural item was donated to the Horner Musuem by the heirs of J.L. Hill. The cultural item is a bone paddle.

At an unknown date, one cultural item was found in the Davis mound in the Willamette Valley, OR, by an unknown person. In 1919, the cultural item was donated to the Horner Museum by Ward G. Sinclair. The one cultural item is a pestle.

At an unknown date, cultural items were found by an unknown person. Museum records are unclear if all or only part of these cultural items were found in the Kalapuya mounds, Linn County, OR. In 1954, the cultural items were donated to the Horner Collection by Dr. A.G. Prill. The 32 cultural items are 28 projectile points, 1 drill, 1 drill fragment, and 2 knives

The Willamette Valley and Linn County (which is a part of the Willamette Valley) is the traditional territory of the Confederated Tribes of the Grand Ronde Community and is part of the area ceded by the 1855 Kalapuya treaty. Museum records state these items came from mounds and Mr. Crawford, Mr. Hill, Mr. Sinclair, Mr. Wright, and Dr. Prill are known to have collected cultural items from burials and mounds. Based on the history of the collectors, consultation evidence, and museum records, the Horner Collection, Oregon State University reasonably believes the cultural items are unassociated funerary objects.

In 1916, a shot glass was “found in an Indian grave at Westport,” Clatsop County, OR, probably by Miss Frida Flood who gifted the cultural item to the Horner Collection in 1929. Museum records clearly state this object was taken from a grave, but there is no indication that the remains were exhumed. Officials of the Horner Collection, Oregon State University reasonably believe this item is an unassociated funerary object.

Westport is in Clatsop County, OR, which is in the traditional territory of the Confederated Tribes of the Grand Ronde Community of Oregon. The Clatsop, Nehalem, Tillamook, Nestucca, Neachesna (Salmon River Tillamook), and Siletz Band of Tillamook were all parties to the 1855 Coast Treaty. The treaty was never ratified and the northern Oregon coastal bands were not forced to remove to the Siletz Reservation as stipulated in the treaty. The Grand Ronde Indian Agent, in 1872, includes the Clatsop as one of the tribes living on the Grand Ronde Reservation.

Officials of the Horner Collection, Oregon State University have determined that, pursuant to 25 U.S.C. 3001 (3)(B), the 63 cultural items described above are reasonably believed to have been placed with or near individual human remains at the time of death or later as part of the death rite or ceremony and are believed, by a preponderance of the evidence, to have been removed from a specific burial site of a Native American individual. Officials of the Horner Collection, Oregon State University also have determined that, pursuant to 25 U.S.C. 3001 (2), there is a relationship of shared group identity that can be reasonably traced between the unassociated funerary objects and the Confederated Tribes of the Grand Ronde Community of Oregon.

Officials of the Horner Collection, Oregon State University have determined that, pursuant to 25 U.S.C. 3001 (3)(D), 13 of the cultural items described above have ongoing historical, traditional, or cultural importance central to the Native American group or culture itself, rather than property owned by an individual. Officials of the Horner Collection, Oregon State University also have determined that, pursuant to 25 U.S.C. 3001 (2), there is a relationship of shared group identity that can be reasonably traced between the objects of cultural patrimony and the Confederated Tribes of the Grand Ronde Community of Oregon.

Representatives of any other Indian tribe that believes itself to be culturally affiliated with the objects of cultural patrimony and/or unassociated funerary objects should contact Sabah Randhawa, Executive Vice President and Provost, President's Office, Oregon State University, 600 Kerr Administration Building, Corvallis, OR 97331, telephone (541) 737-8260, before September 22, 2008. Repatriation of the objects of cultural patrimony and unassociated funerary objects to the Confederated Tribes of the Grand Ronde Community of Oregon may proceed after that date if no additional claimants come forward.

Horner Collection, Oregon State University is responsible for notifying the Confederated Tribes of the Grand Ronde Community of Oregon and Confederated Tribes of the Siletz Reservation, Oregon that this notice has been published.

Dated: July 14, 2008
Sherry Hutt,
Manager, National NAGPRA Program.

[FR Doc. E8-19332 Filed 8-20-08; 8:45 am]

BILLING CODE 4312-50-S